CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed instrument to aggregate the responses to its approved information collection instruments: The Senior Corps Independent Living Client Survey and the Senior Corps Respite Client Survey. All Senior Companion Program (SCP) grantees are required to uses these instruments to collect performance measures outcome data, beginning in fiscal year 2013. The instruments are optional for the RSVP Program grantees. Senior Corps will require all grantee organizations that participate in the survey to summarize survey results and submit those results to the Corporation.

Copies of the information collection request can be obtained by contacting the office listed in the addresses section of this notice.

DATES: Written comments must be submitted to the individual and office listed in the ADDRESSES section by April 8, 2013.

ADDRESSES: You may submit comments, identified by the title of the information collection activity, by any of the following methods:

(1) By mail sent to: Corporation for National and Community Service, Senior Corps; Attention Angela Roberts, Associate Director, Room 9401; 1201 New York Avenue NW., Washington, DC, 20525.

(2) By hand delivery or by courier to the CNCS mailroom at Room 8100 at the mail address given in paragraph (1) above, between 9:00 a.m. and 4:00 p.m. Eastern Time, Monday through Friday, except Federal holidays.

(3) By fax to: (202) 606-3475, Attention: Angela Roberts, Associate Director

(4) Electronically through www.regulations.gov. Individuals who use a telecommunications device for the deaf (TTY-TDD) may call 1-800-833-3722 between 8:00 a.m. and 8:00 p.m. Eastern Time, Monday through Friday.

FOR FURTHER INFORMATION CONTACT: Angela Roberts, (202) 606-6822, or by email at aroberts@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Senior Corps adopted new, required performance measures for its programs beginning in Fiscal Year 2013. Under a separate information collection approval, two Independent Living Performance Measures Surveys were cleared for use by grantees of the Senior Companion Program (required) and the RSVP Program (optional). All Senior Companion Program grantees are required to use the previously cleared surveys to solicit outcome data from clients and caregivers served by Senior Companion volunteers. The information collection instrument proposed in this Notice will serve as the required template for grantees to use to provide two levels of information: (1) A row on the spreadsheet template corresponding to each individual client, without any personal information that could identify the individual; and (2) aggregate project level performance measures data for submission to CNCS. Grantees will complete the template, by transcribing information from the individual surveys completed by the clients and caregivers served by Senior Companion volunteers (required) and RSVP volunteers (optional) to the spreadsheet template.

Current Action

This is a new information collection request. The proposed standardized spreadsheet will incorporate all questions listed on the currently approved Independent Living Performance Measures Surveys for both clients and caregivers. Respondents will aggregate data on the proposed spreadsheet for submission to CNCS.

Type of Review: New.

Agency: Corporation for National and Community Service.

Title: Independent Living Surveys Performance Measures Aggregation Tool.

OMB Number: None.

Agency Number: None.

Affected Public: All grantees of the Senior Companion Program. Grantees of the RSVP Program that voluntarily adopt the Performance Measures Surveys.

Total Respondents: 350.

Frequency: Annual.

Average Time per Response: Averages 7 hours.

Estimated Total Burden Hours: 2,450.

Total Burden Cost (capital/startup): None.

Total Burden Cost (operating/maintenance): None.

Comments submitted in response to this notice will be summarized and/or included in the request for Office of Management and Budget approval of the information collection request; they will also become a matter of public record.

Dated: January 30, 2013.
Erwin Tan,
Senior Corps.

[FR Doc. 2013-02509 Filed 2-5-13; 8:45 am]

BILLING CODE 6050-$$-P